DEPARTMENT OF HOUSING AND URBAN DEVELOPMENT

[Docket No. FR-5100-C-01]

Fiscal Year 2007 SuperNOFA for HUD's Discretionary Programs; Supplementary Information and Technical Corrections

AGENCY: Office of the Secretary, HUD.

ACTION: Notice of Supplementary Information and Technical Corrections to Fiscal Year 2007 SuperNOFA for HUD's Discretionary Programs.

SUMMARY: On January 18, 2007, HUD published its Notice of HUD's Fiscal Year (FY) 2007 Notice of Funding Availability (NOFA) Policy Requirements and General Section to the FY 2007 SuperNOFA for HUD's Discretionary Programs (General Section). On March 13, 2007, HUD published its FY 2007 SuperNOFA for HUD's Discretionary Programs (FY 2007 SuperNOFA). In this notice published in today's Federal Register, HUD announces that it has posted corrected materials to Grants.gov, extends deadline dates for submission of applications, and clarifies requirements for submitting faxed documents. HUD is also providing supplemental information for and making technical corrections to the General Section and several individual program NOFAs.

HUD has found that the Logic Models posted to Grants.gov included an error in the instructions and programming errors that could lead applicants to submit deficient or less competitive applications. HUD is posting corrected Logic Models to Grants.gov. Applicants who have signed up for the Grants.gov notification services will be automatically notified when the corrected Logic Models and these technical corrections are posted to Grants.gov. Applicants that have not signed up for the notification services should check the Grants.gov Web site for the modification to the announcement posting following publication of this Notice. In order to give applicants the opportunity and time to submit or resubmit their applications with the corrected Logic Models, HUD is reopening competition for program NOFAs whose deadline dates have already passed and extending the deadline dates for all NOFAs. Applicants that wish to resubmit their applications must submit an entire, complete application. Applicants that submit more than one electronic copy of the same application must resubmit all faxed documents after receipt and validation by Grants.gov of each revised application. This will ensure that the faxes are associated with the revised application.

Finally, this document provides supplementary information for and makes corrections to the General Section and the individual NOFAs for the following programs, which were included in the FY 2007 SuperNOFA: Community Development Technical Assistance Programs (CD-TA), Lead-Based Paint Hazard Control Grant Program, Lead Hazard Reduction Grant Program, Operation Lead Elimination Action Program, Technical Studies Programs (Lead Technical Studies and Healthy Homes Technical Studies), Lead Outreach Program, Healthy Homes Demonstration Grants Program, Housing Choice Voucher (HCV) Family Self-Sufficiency (FSS) Program Coordinators, Resident Opportunity and Self-Sufficiency (ROSS)—Elderly/Persons with Disabilities, ROSS—Family-Homeownership, Self-Help Homeownership Opportunity Program, Housing Opportunities for Persons with AIDS (HOPWA), Section 202 Supportive Housing for the Elderly Program, Section 811 Supportive Housing for Persons with Disabilities Program, Early Doctoral Student Research Program, and Doctoral Dissertation Research Grant Program. Applicants who have submitted their applications prior to this publication should resubmit a complete, updated application that reflects any applicable corrections and clarifications, along with the corrected Logic Model described below in section II. The last application received and validated by Grants.gov by the deadline date will be the application that is reviewed, rated, and ranked.

The supplementary information and technical corrections in this notice are reflected in the instruction packages but do not affect the application packages on Grants.gov.

DATES: The application deadline dates for the all program NOFAs are extended to the dates provided in Appendix A of this notice published in today's Federal Register.

FOR FURTHER INFORMATION CONTACT: Questions regarding the General Section of the SuperNOFA published January 18, 2007, should be directed to the Office of Departmental Grants Management and Oversight, Office of Administration, Department of Housing and Urban Development, 451 Seventh Street, SW., Room 3156, Washington, DC 20410-5000; telephone number (202) 708-0667. Persons with hearing or speech impairments may access this number via TTY by calling the Federal Information Relay Service at (800) 877-8339. For the programs listed in this notice, please contact the office or individual listed under Section VII of the individual program sections of the SuperNOFA, published on March 13, 2007.

SUPPLEMENTARY INFORMATION:

I. Background

On January 18, 2007 (72 FR 2396), HUD published the General Section in advance of the FY 2007 SuperNOFA to provide prospective applicants additional time to become familiar with and address provisions that apply to almost every application. On March 13, 2007 (72 FR 11434), HUD published the FY 2007 SuperNOFA, which announced the availability of approximately $2 billion in HUD assistance. In this notice published in today's Federal Register, HUD announces that it has posted corrected materials to Grants.gov, extends deadline dates for submission of applications, and clarifies requirements for submitting faxed documents. HUD is also providing supplemental information for and making technical corrections to the General Section and several individual program NOFAs.

II. Submission or Resubmission of Applications With Corrected Logic Model

HUD has found that the Logic Models posted to Grants.gov included an error in the instructions regarding the references to the Standard Form (SF) 424 Box 8a (Applicant Legal Name) and Box 15 (Descriptive Title of Applicant's Project). The Logic Models also had some programming errors which caused the drop down menus to operate improperly. In addition, the Lead Outreach Grant Program (LOGP) Logic Model was corrected to delete references to technical assistance activities which are no longer eligible activities under the 2007 LOGP NOFA. Finally, the Continuum of Care, Housing Choice Voucher Family Self Sufficiency, and Public Housing Family Self Sufficiency Logic Models have been updated to include an additional management question. HUD is posting corrected Logic Models to the Grants.gov instructions download for all 2007 NOFAs. For Continuum of Care applicants, the revised Logic Model will be posted to HUD's funding available page at http://www.hud.gov/offices/adm/grants/nofa07/grpcoc.cfr. All applicants should use the corrected version of each program Logic Model. For applicants filing electronically, when resubmitting your revised application, please use the same application and facsimile transmittal cover page that you used to submit your original application. Continuum of Care applicants should resubmit their revised application in paper format following the NOFA instructions. HUD recommends that any applicants that already submitted an application resubmit a revised application using the corrected version of the program Logic Model. HUD will rate and rank the latest version of each application submitted. Applicants who fail to submit a revised application and use the incorrect version of the Logic Model might inadvertently select ineligible or less desirable options and be rated less favorably as a result.

III. Reopening of NOFAS and Extensions of Deadline Dates

To provide applicants the opportunity and time to submit or resubmit their complete applications with the corrected Logic Models, HUD is reopening competition for program NOFAs whose deadline dates have passed and extending the deadline dates for all other NOFAs. Applicants may submit applications for NOFAs to meet the new extended deadline dates, whether or not they submitted an application prior to today's notice. The new deadline dates are provided in Appendix A to this notice published in today's Federal Register. The new deadline dates are also reflected in the technical corrections to individual program NOFAs below. In the event of a discrepancy between a deadline date in Appendix A to this notice and the deadline date in the individual program NOFAs after the amendments made below, the deadline date in Appendix A to this notice prevails.

IV. Faxing Documents to HUD

Applicants submitting an application in response to this notice must follow the instructions for submitting faxed documents in the General Section. HUD will only accept complete applications. Subsequent submissions of the same application must comply with the following, additional instructions. Submissions must include all faxes. Faxes must be submitted following validation of each revised application by Grants.gov to ensure faxes are matched to the latest application submission.

In addition, HUD is taking the opportunity in this technical correction to clarify its policy for applicants to follow when submitting technical cures to an application submission following HUD review and request for a technical cure to an application submission. For electronic application submitters only, HUD will be requesting that technical cures be submitted using the fax transmittal form and faxed to the facsimile solution number used when submitting faxes with your application submission. This policy ensures that a complete application, including any technical cures requested by HUD staff during the review and evaluation process, will be available in electronic format in HUD's grants system. Beginning in FY 2007 with funding announcements, it is HUD's intent to make available the highest rated application available for public view on HUD's Freedom of Information Act (FOIA) Web site. Therefore, applicants submitting technical cures requested by HUD staff should submit the material using the same form HUD-96011 cover sheet used to submit faxes with your application submission. The material should be sent using the facsimile solution fax numbers found in the General Section. Prior to placing an application on the FOIA Web site, HUD will conduct a privacy review and redact private information. However, if applicants submit applications with proprietary information they should note the information is proprietary in their application submission.

V. Supplemental Information and Technical Corrections

This notice also provides supplemental information and makes technical corrections to the General Section and to the individual NOFAs for the following programs, which were included in the FY 2007 SuperNOFA: Community Development Technical Assistance Programs (CD-TA), Lead-Based Paint Hazard Control Grant Program, Lead Hazard Reduction Grant Program, Operation Lead Elimination Action Program, Technical Studies Programs (Lead Technical Studies and Healthy Homes Technical Studies), Lead Outreach Program, Healthy Homes Demonstration Grants Program, Housing Choice Voucher (HCV) Family Self-Sufficiency (FSS) Program Coordinators, Resident Opportunity and Self-Sufficiency (ROSS)—Elderly/Persons with Disabilities, ROSS-Family-Homeownership, Self-Help Homeownership Opportunity Program, Housing Opportunities for Persons with AIDS (HOPWA), Section 202 Supportive Housing for the Elderly Program, Section 811 Supportive Housing for Persons with Disabilities Program, Early Doctoral Student Research Program, and Doctoral Dissertation Research Grant Program.

Summaries of the technical corrections made by this document are provided below. The Federal Register page number shown in brackets identifies where the individual funding availability announcement that is being corrected can be found either in the January 18, 2007, General Section or the March 13, 2007, SuperNOFA. The technical corrections described in today's Federal Register are also reflected in the updated application instructions download for the funding opportunity located on Grants.gov. HUD recommends that applicants who have submitted their applications prior to this publication should resubmit an entire, complete, revised application that reflects any applicable corrections and clarifications, along with the corrected Logic Model described above in section II. The last application received and validated by Grants.gov by the deadline date will be the application that is reviewed, rated, and ranked. For Continuum of Care applicants, HUD will review the last complete paper application received in accordance with the Continuum of Care NOFA instructions.

A. General Section [2396]

On page 2409, section V.A.1.b., first column, HUD is adding the instruction that when responding to Rating Factor 1, Capacity, applicants should not include social security numbers on any resumes submitted to HUD.

On page 2416, section VIII.F., second column, HUD is adding a new section VIII.F.3. describing the statutory limitation on the use of HUD grant funds to support projects that seek to use the power of eminent domain. Congress made the limitation applicable to funds under the FY 2007 SuperNOFA after HUD published the General Section. Recipients may use HUD funds to seek a government's use of its power to take property only if the power is employed for public use. Economic development that primarily benefits private entities is not considered a public use. However, transportation and utility projects that serve the general public, as well as projects that remove threats to public health and safety or clean up brownfields, are considered examples of public use.

On page 2416, section VIII., third column, HUD is adding a new section VIII.I., which summarizes guidance from the Office of Management and Budget (OMB) that applies to the cost sharing and matching requirements in the FY 2007 SuperNOFA. This section notes the importance of complying with applicable OMB circulars, particularly with respect to funds used or proposed to be used to satisfy cost sharing or matching requirements. OMB Circulars A-102 (as implemented by 24 CFR part 85), A-110 (as implemented by 24 CFR part 84), A-87, and A-122 set forth administrative standards and cost principles, including requirements that apply to cost sharing and matching, organized according to the status of the entity receiving a grant or cooperative agreement.

B. Community Development Technical Assistance (CD-TA) Program NOFA [11449]

HUD is amending the CD-TA program to implement two revisions. The first revision will assist applicants to distinguish between TA priorities for applicants who submit an application for a national homeless TA program and applicants that submit an application for a local (i.e., within the jurisdiction of a HUD field office) homeless TA program.

HUD inadvertently omitted from the CD-TA NOFA language that referenced priorities to be carried out by TA providers that work on the local level within the jurisdiction of specific HUD field offices. Without guidance for applicants on the local level, homeless TA applicants, regardless of whether they apply for national TA or local TA in the field offices, would be required to submit applications focused on Homeless Management Information System (HMIS) activities.

With the revisions presented in this notice, applicants must, in response to Rating Factors 2 through 5, discuss the specific TA activities that will be carried out during the term of the grant. These activities need to relate to the eligible activities listed in Section III.C. of the CD-TA program NOFA. Because the NOFA, as published on March 13, 2007, inadvertently requires applicants for local TA to relate activities to the national HMIS priorities, HUD is clarifying the local TA priorities in this notice.

The second revision implemented by this notice clarifies the HOME TA funds that are available under the CD-TA NOFA. In the NOFA, HUD inadvertently stated that a single applicant organization is limited to 20 percent of the $18,000,000 made available for HOME and CHDO TA in FY 2007. However, by statute, this amount is limited to amounts that are appropriated and does not include other available funds. As a result, HUD is revising the CD-TA NOFA to state that a single applicant organization is limited to 20 percent of the $9.9 million appropriated in FY 2007.

This amendment contains information that applicants for local homeless TA and HOME TA need to complete adequately their applications. Those applicants who have already submitted an application are encouraged to review this notice and resubmit a revised application.

These corrections are reflected in the instructions found on Grants.gov. Applicants must download the instructions to receive all forms and instructions related to this NOFA. Applicants are encouraged to read the instructions on Grants.gov prior to submitting their applications.

C. Indian Community Development Block Grant Program for Indian Tribes and Alaska Native Villages [11449]

On page 11456, section IV.C.1., first column, HUD is deleting a sentence describing submission requirements for applicants that are granted a waiver of electronic submission requirements. Any such applicants will receive submission requirements once a waiver is granted.

This correction is reflected in the instructions found on Grants.gov. Applicants must download the instructions to receive all forms and instructions related to this NOFA. Applicants are encouraged to read the instructions on Grants.gov prior to submitting their applications.

D. Lead-Based Paint Hazard Control Grant Program; Lead Hazard Reduction Demonstration Grant Program; and Operation Lead Elimination Action Program [Page 11539]

On page 11548, section V.A.1.b.(2), third column, HUD is clarifying the term “current or previous grantee” by adding “awarded funds in FY 2002 or later.”

On page 11549, section V.A.2., first column, first full paragraph, HUD is correcting the HUDuser Web site address, which may be used to verify income data submitted to HUD.

On page 11552, section V.A.4., second column, third full paragraph, first sentence, HUD is correcting the minimum match requirement for the Lead-Based Paint Hazard Control and Lead Hazard Reduction Demonstration programs to be 10 percent. This correction makes this statement consistent with other statements in the NOFA (e.g., page 11540, section I.B.3, left column; page 11541, section III.B., left column; and page 11543, section III.C.3.a., left column).

On page 11552, section V.A.4., third column, HUD is correcting the table header to read “LEAP.” This correction makes the header of the table at the top of the third column consistent with the last header of the table in second column, which continues in the third column.

On page 11553, section V.B.2.b., column 3, HUD is correcting the description of the factors for award by stating that a minimum of 75 points is required for award. This corrects the inadvertent omission of the minimum rating score for award among eligible applicants, which is the same as in the FY 2006 combined Lead Hazard Control NOFA.

These corrections are reflected in the instructions found on Grants.gov. Applicants must download the instructions to receive all forms and instructions related to this NOFA. Applicants are encouraged to read the instructions on Grants.gov prior to submitting their applications.

E. Lead Technical Studies NOFA (Combined) Grant Program [Page 11556]

On page 11557, Overview Information, section G.2., left column, HUD is correcting the amount of available funding for the combined Technical Studies grant programs from $5.6 million to $5.0 million, and the Lead Technical Studies grant program from $3.6 million to $3.0 million. This reflects a more accurate assessment of the amount of funds available for the Lead Technical Studies grant program.

On page 11558, section II.A., center column, HUD is correcting the amount of available funding for the Lead Technical Studies grant program from $3.6 million to $3.0 million. This reflects a more accurate assessment of the amount of funds available for this grant program.

On page 11562, section IV.B.1.g.(5)(b), right column, HUD is correcting the checklist for the budget to include the budget narrative, which was inadvertently omitted from the checklist. This correction makes the checklist consistent with the requirement on page 11565, section V.A.3.c.(5)(b), second column.

These corrections are reflected in the instructions found on Grants.gov. Applicants must download the instructions to receive all forms and instructions related to this NOFA. Applicants are encouraged to read the instructions on Grants.gov prior to submitting their applications.

F. Lead Outreach Program [Page 11568]

On page 11568, HUD is correcting the title by deleting line 5, “Technical Studies NOFA”. Mentioning the Technical Studies NOFA in the title implies that the Lead Outreach NOFA and Technical Studies NOFA are connected, which is not the case.

This correction is reflected in the instructions found on Grants.gov. Applicants must download the instructions to receive all forms and instructions related to this NOFA. Applicants are encouraged to read the instructions on Grants.gov prior to submitting their applications.

G. Healthy Homes Demonstration Grant Program [Page 11578]

On page 11578, HUD is correcting the header by deleting line 5, “Technical Studies NOFA”. Mentioning the Technical Studies NOFA implies that the Healthy Homes Demonstration NOFA and Technical Studies NOFA are connected, which is not the case.

On page 11584, section IV.B.7., first column, second bullet, second listed submission requirement, HUD is correcting the checklist's identification of the detailed budget worksheet from Form HUD-424-CB, “Grant Application Detailed Budget,” to Form HUD-424-CBW, “Grant Application Detailed Budget Worksheet”. This correction makes the checklist consistent with rating factor 3 (page 11588, section V.A.2.c.(3), left column), in which the applicant is asked to provide the worksheet.

On page 11584, section IV.B.7., first column, second bullet, HUD is correcting the checklist by adding the budget narrative to the list of materials required to be submitted in response to rating factors. This correction makes the checklist consistent with Rating Factor 3 (page 11588, section V.A.2.c.(3), center column), in which the applicant is asked to provide the 4-page (maximum) budget narrative.

On page 11588, section V.A.2.c.(3), second column, HUD is clarifying the requirement for the budget package to include a budget narrative, as well as the budget itself, for any sub-grantee proposed to receive more than 10 percent of the total federal budget request. This will clarify the requirement on page 11583, section IV.B.6.c., right column, and inform applicants that a separate budget proposal should be provided for certain sub-recipients.

These corrections are reflected in the instructions found on Grants.gov. Applicants must download the instructions to receive all forms and instructions related to this NOFA. Applicants are encouraged to read the instructions on Grants.gov prior to submitting their applications.

H. Housing Choice Voucher (HCV) Family Self-Sufficiency (FSS) Program Coordinators [Page 11593]

On page 11595, section IV.B.1., third column, HUD is clarifying applicants' obligation to submit form HUD-2991, Certification of Consistency with the Consolidated Plan. Applicants may satisfy this requirement by submitting a copy of the signed PHA Certification of Compliance for their current Annual PHA Plan.

This correction is reflected in the instructions found on Grants.gov. Applicants must download the instructions to receive all forms and instructions related to this NOFA. Applicants are encouraged to read the instructions on Grants.gov prior to submitting their applications.

I. ROSS—Elderly/Persons With Disabilities Program [Page 11610]

On page 11614, section III.C.1., second column, HUD is adding “program outreach to participants” to the list of eligible activities.

On page 11614, section III.C.2.a., third column, HUD is removing the requirement for match-related letters of commitment, memoranda of understanding, and tribal resolutions to be on letterhead. HUD is also deleting the duplicative statement in the same sentence that such documents must be signed by a person authorized to commit the matching resources. The signature requirement is set forth in the immediately preceding sentence and is not affected by this change. The requirement that letters of support from Resident Associations and PHAs must be on letterhead is also unaffected by this change.

On page 11616, section III.C.4.c.(3), second column, HUD is deleting the repetitive statements that joint applications involving nonprofit organizations must include evidence of resident support for the nonprofit organization. The requirement for nonprofit non-lead applicants to submit letters of support is already stated in section III.C.4.c.(1).

These corrections are reflected in the instructions found on Grants.gov. Applicants must download the instructions to receive all forms and instructions related to this NOFA. Applicants are encouraged to read the instructions on Grants.gov prior to submitting their applications.

J. ROSS Family and Homeownership Program [Page 11625]

On page 11628, section II.A.5., first column, HUD is correcting the misstatement that the total funding amounts described are for ROSS—Elderly/Persons with Disabilities grants. The correction clarifies that the total funding amounts are for ROSS—Family and Homeownership grants.

On page 11629, section II.C.1.a., first column, first partial paragraph, HUD is correcting the reference to HUD's policy priority to provide the complete title of the policy priority, which is “Providing Increased Homeownership and Rental Opportunities for Low- and Moderate-Income Persons, Persons with Disabilities, the Elderly, Minorities, and Families with Limited English Proficiency.”

On page 11630, section II.C.b.(10), second column, HUD is deleting “program outreach” from the list of administrative costs and adding it to the list of eligible activities in section II.C.b.(11).

On page 11630, section III.C.2.a., third column, HUD is removing the requirement for match-related letters of commitment, memoranda of understanding, and tribal resolutions to be on letterhead. HUD is also deleting the duplicative statement in the same sentence that such documents must be signed by a person authorized to commit the matching resources. The signature requirement is set forth in the immediately preceding sentence and is not affected by this change. The requirement that letters of support from Resident Associations and PHAs must be on letterhead is also unaffected by this change.

On page 11632, section III.C.4.c.(3), second column, HUD is deleting the statement that joint applications involving nonprofit organizations must include evidence of resident support for the nonprofit organization. The requirement for nonprofit non-lead applicants to submit letters of support is already stated in section III.C.4.c.(1).

On page 11634, section IV.E.3., first column, HUD is deleting “program outreach” from the list of administrative costs.

On page 11636, section V.A.1.c.(1)(a)(i), third column, HUD is increasing the total number of points available for involving community partners in the delivery of services from 4 to 6. HUD is making this change so that the total points available for the criterion, Specific Services and/or Activities, will correctly add up to 12.

These corrections are reflected in the instructions found on Grants.gov. Applicants must download the instructions to receive all forms and instructions related to this NOFA. Applicants are encouraged to read the instructions on Grants.gov prior to submitting their applications.

K. Self-Help Homeownership Opportunity Program [Page 11649]

On page 11656, section V.A., first column, under paragraph d. of Submission Requirements for Rating Factor 3, HUD is adding a requirement that applicants must state how the sales price for SHOP-assisted units is established. HUD is also modifying an existing, related requirement. With this change, applicants must demonstrate how, rather than simply the extent to which, SHOP funds, sweat equity, and other contributed resources reduce the average sales price below the appraised value of the home or the market value of comparable housing in the neighborhood.

On page 11659, section VI.A.1., second column, HUD is adding an additional basis on which it may fund less than the amount requested by an applicant.

These corrections are reflected in the instructions found on Grants.gov. Applicants must download the instructions to receive all forms and instructions related to this NOFA. Applicants are encouraged to read the instructions on Grants.gov prior to submitting their applications.

L. Housing Opportunities for Persons With AIDS

On page 11663, section II.A., first column, HUD is reducing to $2.3 million its estimate of funds that will be available after it makes awards based on renewal applications for existing projects. HUD has received more applications for renewal than it had anticipated.

M. Section 202 Supportive Housing for the Elderly Program [Page 11697]

On page 11702, section III.C.2.b.(3)(c)(ii), third column, HUD is extending the deadline for receipt by the local HUD office of Phase II Environmental Site Assessments to July 16, 2007.

On page 11702, section III.C.2.b.(3)(c)(iii), third column, HUD is extending the deadline for receipt by the local HUD office of the description of the extent of the contamination and the plan for clean-up of the site to July 16, 2007.

On page 11712, section V.A.1., first column, HUD is increasing the number of points available under Rating Factor 1, Capacity of the Applicant and Relevant Organizational Staff, from 23 to 25 points.

On page 11712, section V.A.1.a., second column, HUD is increasing the number of points available for the experience and capacity criteria described from 13 to 15.

On page 11713, section V.A.3., second column, HUD is decreasing the number of points available under rating Factor 3, Soundness of Approach, from 47 to 45.

On page 11713, section V.A.3.c., third column, HUD is decreasing the number of points available for the suitability of the site from 10 to 8.

On page 11713, section V.A.3.c.(2)(a), third column, HUD is clarifying the first of three enumerated statistical conditions in which a neighborhood meets the definition of a “minority neighborhood (area of minority concentration).”

On page 11713, section V.A.3.c.(2)(b), third column, HUD is clarifying the second of three enumerated statistical conditions in which a neighborhood meets the definition of a “minority neighborhood (area of minority concentration).”

These corrections are reflected in the instructions found on Grants.gov. Applicants must download the instructions to receive all forms and instructions related to this NOFA. Applicants are encouraged to read the instructions on Grants.gov prior to submitting their applications.

N. Section 811 Supportive Housing for Persons With Disabilities [Page 11719]

On page 11724, section III.C.2.b.(3)(d)(ii), first column, HUD is extending the deadline for receipt by the local HUD office of the Phase II Environmental Site Assessment to July 23, 2007.

On page 11724, section III.C.2.b.(3)(d)(iii), first column, HUD is extending the deadline for receipt by the local HUD office of the description of the extent of the contamination and the plan for clean-up of the site to July 23, 2007.

On page 11740, section V.B.4.(c), first column, first full paragraph, HUD is correcting the first funding priority for any funds remaining after the Multifamily HUB selection process is completed. HUD will use the residual funds first to fund Way Station, Incorporated, an FY 2006 applicant that was not funded due to an administrative error. The funding priorities that were previously designated as first and second priorities are now redesignated as second and third priorities, respectively, for any remaining funds.

On page 11740, section VI.C.1., third column, HUD is deleting a sentence fragment that was mistakenly included in the section on reporting requirements.

These corrections are reflected in the instructions found on Grants.gov. Applicants must download the instructions to receive all forms and instructions related to this NOFA. Applicants are encouraged to read the instructions on Grants.gov prior to submitting their applications.

O. The Early Doctoral Student Research Program and Doctoral Dissertation Research Grant Program [Page 11758]

On page 11760, section II.C.1, HUD is clarifying that indirect costs are not eligible costs under the Early Doctoral Student Research Program or the Doctoral Dissertation Research Grant Program.

This correction is reflected in the instructions found on Grants.gov. Applicants must download the instructions to receive all forms and instructions related to this NOFA. Applicants are encouraged to read the instructions on Grants.gov prior to submitting their applications.

Accordingly, in the Notice of HUD's FY 2007 NOFA General Section, beginning at 72 FR 2395, in the issue of January 18, 2007, the following corrections are made.

1. General Section

On page 2409, section V.A.1.b., first column, at the beginning of the paragraph following “Factor 5: Achieving Results and Program Evaluation,” add the following sentence:

When responding to Rating Factor 1, Capacity, applicants should not include social security numbers on any resumes submitted to HUD.

On page 2416, section VIII.F., second column, add the following new section VIII.F.3.:

3. Eminent Domain

The Revised Continuing Appropriations Resolution, 2007 (Pub. L. 110-5, approved February 15, 2007) was enacted after publication of the General Section and made HUD's FY 2007 appropriated funds subject to the same conditions imposed on its FY 2006 funds. Section 726 of the Transportation, Treasury, Housing and Urban Development, the Judiciary, and Independent Agencies Appropriations Act, 2006 (Pub. L. 109-115, approved November 30, 2005) states that no funds made available under the Act may be used to support any federal, state, or local projects that seek to use the power of eminent domain, unless eminent domain is employed only for a public use. This limitation applies to FY 2007 appropriated funds.

For purposes of this provision, public use shall not be construed to include economic development that primarily benefits private entities.

Further, any use of funds for mass transit, railroad, airport, seaport or highway projects, as well as utility projects which benefit or serve the general public (including energy-related, communication-related, water-related and wastewater-related infrastructure), other structures designated for use by the general public or which have other common-carrier or public-utility functions that serve the general public and are subject to regulation and oversight by the government, and projects for the removal of an immediate threat to public health and safety or brownfield as defined in the Small Business Liability Relief and Brownfields Revitalization Act (Pub. L. 107-118) shall be considered a public use for purposes of eminent domain.

On page 2416, section VIII., third column, add the following new section VIII.I.:

I. Office of Management and Budget Circular Compliance

On February 15, 2007, President Bush signed into law the Revised Continuing Appropriations Resolution, 2007 (Pub. L. 110-5, approved February 15, 2007) (CR), which provided FY 2007 appropriations for the majority of federal departments and agencies. For the federal departments and agencies funded by this CR, the CR restricts the programs and activities of these departments and agencies largely to FY 2006 funding levels. The Office of Management and Budget (OMB) has issued guidance to federal departments and agencies regarding administration of funds appropriated by the CR. (See OMB Memorandum (M-07-10) issued February 15, 2007.)

In this guidance, OMB emphasizes the importance of agencies adhering to existing statutes, regulations, and Administration policy with respect to promoting and providing for competition in soliciting offers and awarding contracts and competitive grants. With respect to HUD's FY 2007 SuperNOFA, it is important to note that the following OMB circulars are applicable, and particular note should be given to the provisions concerning the use of federal funds for matching requirements.

OMB Circular A-102 (Grants and Cooperative Agreements with State and Local Governments) establishes consistency and uniformity among federal agencies in the management of grants and cooperative agreements with state, local, and federally recognized Indian tribal governments. The circular provides that state and local administration of federal funds must include fiscal and administrative requirements that are sufficiently specific to ensure that: Funds are used in compliance with all applicable federal statutory and regulatory provisions, costs are reasonable and necessary for operating these programs, and funds are not to be used for general expenses required to carry out other responsibilities of a state or its subrecipients.

OMB Circular A-110 (Uniform Administrative Requirements for Grants and Agreements with Institutions of Higher Education, Hospitals, and Other Non-Profit Organizations) sets forth standards for obtaining consistency and uniformity among federal agencies in the administration of grants to and agreements with institutions of higher education, hospitals, and other non-profit organizations. This circular specifies the conditions for which funds may be used for cost sharing or matching and provides that federal funds shall not be accepted as cost sharing or matching except where authorized by federal statute to be used for cost sharing or matching.

OMB Circular A-87 (Cost Principles for State, Local, and Indian Tribal Governments) establishes principles and standards for determining costs for federal awards carried out through grants, cost reimbursement contracts, and other agreements with states and local governments and federally-recognized Indian tribal governments (governmental units). This circular provides that an allowable cost under a federal award does not include a cost sharing or matching requirement of any other federal award in the applicable funding period, except as specifically provided by federal law or regulation.

OMB Circular A-122 (Cost Principles for Non-Profit Organizations) establishes principles for determining costs of grants, contracts, and other agreements with non-profit organizations. This circular provides, similar to OMB Circular A-87, that an allowable cost under a federal award does not include a cost sharing or matching requirement of any other federally-financed program in the applicable funding period.

Applicants for funding under HUD's FY 2007 SuperNOFA are reminded of the importance of confirming that any federal grant funds that they intend to use as a matching share are available to be used as matching funds under applicable statutes and regulations.

In the Notice of HUD's FY 2007 SuperNOFA, beginning at 72 FR 11433, in the issue of March 13, 2007, the following corrections are made.

2. Community Development Technical Assistance (CD-TA) Program NOFA

On page 11441, Overview Information, section F., first column, is revised to read as follows:

F. Dates: The application deadline date is June 22, 2007.

On page 11444, section III.C.1.c., second column, the last sentence in the paragraph is revised by adding the word “National” at the beginning of the sentence to read as follows:

“National TA activities are focused on these priorities that result in measurable performance output and outcomes.”

On page 11444, section II.C.1., second column, redesignate section II.C.1.c. as section II.C.1.c.(1). In redesignated section II.C.1.c.(1), further redesignate paragraphs (1) through (5) as paragraphs (a) through (e).

On page 11444, section II.C.1.c., center column, after redesignated paragraph (e) of national priorities, add the following:

(2) Additionally, local TA activities are focused on these priorities:

(a) Capacity building for CoCs, including facilitating the exchange of information that would help CoCs, grantees and project sponsors carry out the purposes of the McKinney-Vento Act homeless assistance programs, and assisting in identifying and overcoming barriers to the CoC's success in doing so. Deliverables for this technical assistance should include agenda(s), meeting minutes, written summary report(s) including reports on the barriers and methods of overcoming them, next steps with responsible party(ies) identified, and time lines.

(b) Assisting CoCs, grantees and project sponsors to improve access to mainstream systems of care for homeless persons. Deliverables for this technical assistance should include agenda(s), meeting minutes, written summary report(s), next steps with responsible party(ies) identified, and time lines.

(c) Assisting grantees and project sponsors with understanding program requirements and monitoring standards, including sound fiscal and financial management practices, assessment of sub-recipients and providing TA to help CoCs assess grantees, project sponsors and individual projects.

(d) Presenting curriculums, in person or via interactive web presentations, that were developed for HUD Headquarters.

Materials developed for a single-use technical assistance engagement (e.g. agenda, CoC strategic planning, etc.) do not need HUD Headquarters review. However, any materials developed as part of a curriculum or developed to serve more than one CoC, must receive HUD Headquarters review and approval before being used.

On page 11445, section IV.E., third column, the last sentence in the second paragraph under section IV.E is revised to read as follows:

In addition, funding under either HOME or CHDO (HOME) TA to any single organization is limited to 20 percent of the $9.9 million appropriated for HOME and CHDO (HOME) TA in FY 2007.

3. Indian Community Development Block Grant Program for Indian Tribes and Alaska Native Villages

On page 11450, Overview Information, section F., first column, is revised to read as follows:

F. Dates: Application Deadline: Applications must be received and validated no later than the deadline date of June 20, 2007. Please see Section IV of this NOFA for application submission and timely receipt requirements.

On page 11456, section IV.C.1., first column, delete the following sentence:

If you are granted a waiver of the electronic submission requirements, and are submitting a paper application, your completed application must be received by HUD no later than 11:59:59 p.m. on the application deadline date.

On page 11456, section IV.C.1., first column, the first complete sentence is revised to read as follows:

The application deadline date is June 20, 2007.

4. Historically Black Colleges and Universities (HBCU) Program

On page 11468, Overview Information, section F., first column, is revised to read as follows:

F. Dates: The application deadline date is June 13, 2007. Applications must be received and validated by Grants.gov by 11:59:59 p.m. eastern time on the deadline date. Please be sure to read the General Section for electronic application submission and receipt requirements.

5. Hispanic-Serving Institutions Assisting Communities (HSIAC) Program

On page 11478, Overview information, section F, left column, is revised to read as follows:

F. Dates: The application deadline date is June 13, 2007. Applications must be received and validated by Grants.gov by 11:59:59 p.m. eastern time on the deadline date. Please be sure to read the General Section for electronic application submission and receipt requirements.

6. Alaska Native/Native Hawaiian Institutions Assisting Communities (AN/NHIAC) Program

On page 11488, Overview Information, section F., first column, is revised to read as follows:

F. Dates: The application deadline date is June 13, 2007. Applications must be received and validated by Grants.gov by 11:59:59 p.m. eastern time on the deadline date. Please be sure to read the General Section for electronic application submission and receipt requirements.

7. Tribal Colleges and Universities Program (TCUP)

On page 11498, Overview Information, section F., first column, is revised to read as follows:

F. Dates: The application deadline date is June 13, 2007. Applications must be received and validated by Grants.gov by 11:59:59 p.m. eastern time on the deadline date. Please be sure to read the General Section for electronic application submission and receipt requirements.

8. Fair Housing Initiatives Program (FHIP)

On page 11507, Overview Information, section F., first column, is revised to read as follows:

F. Dates: The application deadline date is June 13, 2007. Applications must be received and validated by Grants.gov no later than 11:59:59 pm on the application deadline date. Please see the General Section of the SuperNOFA (the General Section) for information on electronic deadline and timeliness requirements.

On page 11513, section IV.C., first column, the first complete sentence is revised to read as follows:

Applications must be received and validated by http://www.grants.gov/applicants/apply_for_grants.jsp no later than 11:59:59 p.m. eastern time on the application deadline date of June 13, 2007, to be considered timely filed.

9. Housing Counseling Program

On page 11525, Overview Information, section F., first column, is revised to read as follows:

F. Dates: The application deadline date is June 14, 2007. Applications submitted through http://www.grants.gov must be received and validated by grants.gov no later than 11:59:59 p.m. eastern time on the application deadline date. See Section IV of the General Section, regarding application submission procedures and timely filing requirements.

10. Lead-Based Paint Hazard Control Grant Program; Lead Hazard Reduction Demonstration Grant Program; and Operation Lead Elimination Action Program

On page 11539, Overview Information, section F., first column, is revised to read as follows:

F. Dates: The application deadline date is June 15, 2007. Applications submitted through http://www.grants.gov must be received and validated by grants.gov no later than 11:59:59 p.m. eastern time on the application deadline date. See Section IV of the General Section, regarding application submission procedures and timely filing requirements.

On page 11548, section V.A.1.b.(2), third column, is clarified to read as follows:

(2) Current or previous grantees awarded funds in FY 2002 or later under any of this NOFA's programs: HUD will evaluate the applicant's quarterly performance reports for the most recent four (4) quarters, and award a maximum of 10 points based on the performance ratings.

On page 11549, section V.A.2., first column, first full paragraph, the second Web site address is corrected to read as follows: http://www.huduser.org/datasets/il/il07/index.html.

On page 11552, section V.A.4., second column, third full paragraph, first sentence, is corrected to read as follows:

LBPHC and LHRD applicants will be given higher points for leveraged contributions that the applicant commits over and above the 10 percent statutory match requirement.

On page 11552, section V.A.4., third column, the table header is corrected to read “LEAP”.

On page 11553, section V.B.2.b., third column, is corrected to read as follows:

b. The maximum number of points to be awarded is 100 plus two bonus points as described in the General Section and above. A minimum of 75 points is required for award.

11. Lead Technical Studies and Healthy Homes Technical Studies (combined) Grant Program

On page 11557, Overview Information, section F., first column, is revised to read as follows:

F. Dates: The application deadline date is June 15, 2007. Applications must be received and validated by Grants.gov no later than 11:59:59 p.m. eastern time on the application deadline date. See Section IV of the General Section, regarding application submission procedures and timely filing requirements.

On page 11557, Overview Information, section G.2., left column, is corrected to read as follows:

2. Available funding: HUD anticipates that approximately $5.0 million will be available. Of this, approximately $3.0 million is for Lead Technical Studies and approximately $2.0 million is for Healthy Homes Technical Studies.

On page 11558 section II.A, second column, first sentence, is corrected to read as follows:

Approximately $3.0 million in Fiscal Year 2007 funds are available for Lead Technical Studies.

On page 11562, section IV.B.1.g.(5)(b), third column, is corrected to read as follows:

(b) Form-424-CBW (Budget Worksheet) and a budget narrative.

12. Lead Outreach Program

On page 11568, the title is corrected by deleting line 5, “Technical Studies NOFA”.

On page 11569, Overview Information, section F., first column, is revised to read as follows:

F. Dates: The application deadline date is June 15, 2007. Applications must be received and validated by Grants.gov no later than 11:59:59 p.m. eastern time on the application deadline date. See Section IV of the General Section, regarding application submission procedures and timely filing requirements.

13. Healthy Homes Demonstration Grant Program

On page 11578, the title is corrected by deleting line 5, “Technical Studies NOFA”.

On page 11579, Overview Information, section F., first column, is revised to read as follows:

F. Dates: The application deadline date is June 15, 2007. Applications must be received and validated by Grants.gov no later than 11:59:59 p.m. eastern time on the application deadline date. See the General Section IV, regarding application submission procedures and timely filing requirements.

On page 11584, section IV.B.7, first column, second bullet, the second listed submission requirement is corrected to read as follows:

Form HUD-424-CBW, “Grant Application Detailed Budget Worksheet” (HUD Detailed Budget Worksheet Form on Grants.gov).

On page 11584, section IV.B.7., first column, second bullet, is corrected by adding a new submission requirement after the second listed submission requirement:

Budget narrative (4-page maximum for applicant).

On page 11588, section V.A.2.c.(3), last sentence, second column, is corrected to read as follows:

Include a separate, detailed budget and budget narrative for any sub-grantee proposed to receive more than 10 percent of the total federal budget request.

14. Housing Choice Voucher (HCV) Family Self-Sufficiency (FSS) Program Coordinators

On page 11593, Overview Information, section F., first column, is revised to read as follows:

F. Dates: The application deadline date is June 14, 2007. Please see the General Section for timely receipt requirements.

On page 11595, section IV.B.1, third column, after the first complete sentence, add the following sentence:

Applicants may satisfy this requirement to submit HUD-2991, Certification of Consistency with the Consolidated Plan, by submitting a copy of the signed PHA Certification of Compliance for their current Annual PHA Plan.

15. Rural Housing and Economic Development (RHED) Program

On page 11601, Overview Information, section F., is revised to read as follows:

F. Application Date: The application deadline date is June 13, 2007. Applications submitted through http://www.grants.gov must be received and validated by Grants.gov no later than 11:59:59 p.m. Eastern time on the application deadline date. The validation process may take up to 72 hours.

16. ROSS—Elderly/Persons With Disabilities Program

On page 11611, Overview Information, section F., first column, is revised to read as follows:

F. Dates. The application deadline date is August 10, 2007. Applications submitted through http://www.grants.gov must be received and validated by Grants.gov no later than 11:59:59 p.m. eastern time on the application deadline date. Please note that validation may take up to 72 hours.

On page 11614, section III.C.1, second column, add the following section III.C.1.t.:

t. Program outreach to participants. When selecting this activity, applicants should use “other” in the Logic Model and then enter “program outreach to participants.” For the unit of measure, applicants should enter “households” in the dialogue box.

On page 11614, section III.C.2.a, third column, delete the following sentence:

Letters of commitment, memoranda of understanding (MOUs), or tribal resolutions must be on organization letterhead, and signed by a person authorized to make the stated commitment, whether it be in cash or in-kind services.

On page 11616, section III.C.4.c(3), second column, delete the following two sentences:

Joint applications involving nonprofit organizations must also provide evidence of resident support (the RA) or, if the RA is inactive, the RAB. (If the support letter is from the RAB, the applicant must also provide a support letter from the PHAs or tribes/TDHEs.)

17. ROSS Family and Homeownership Program

On page 11626, Overview Information, section F., first column, is revised to read as follows:

F. Dates. The application deadline date is July 20, 2007. Applications submitted through http://www.grants.gov must be received and validated by grants.gov no later than 11:59:59 p.m. eastern time on the application deadline date. The validation process may take up to 72 hours.

On page 11628, section II.A.5., bottom of first column, the last complete sentence is revised to read as follows:

HUD expects to award a total of approximately $30,000,000 in ROSS Family and Homeownership grants in FY 2007.

On page 11629, section III.C.1.a., first column, first partial paragraph, delete “* * *” and add in its place “,Persons with Disabilities, the Elderly, Minorities, and Families with Limited English Proficiency.”

On page 11630, section III.C.1.b.(10), second column, delete “program outreach” from the list of administrative costs.

On page 11630, section III.C.1.b., third column, add the following section II.C.b.(11):

(11) Program outreach to participants. When selecting this activity, applicants should use “other” in the Logic Model and then enter “program outreach to participants.” For the unit of measure, applicants should enter “households” in the dialogue box.

On page 11630, section III.C.2.a., third column, delete the following sentence:

Letters of commitment, memoranda of understanding (MOUs), or tribal resolutions must be on organization letterhead, and signed by a person authorized to make the stated commitment, whether it be in cash or in-kind services.

On page 11632, section III.C.4.c., second column, in the unnumbered paragraph following the paragraph numbered c(3), delete the following sentence:

Joint applications involving nonprofit organizations must also provide evidence of resident support or support from local civic organizations or from units of local government.

On page 11634, section IV.E.3., first column, delete “program outreach” from the list of eligible administrative costs.

On page 11636, section V.A.1.c.(1)(a)(i), third column, is revised to read as follows:

(i) Involve community partners in the delivery of services (6 points);

An applicant will receive up to 6 points if the applicant narrative describes the involvement of partner organizations to deliver or support their proposed programs. An applicant will receive up to 3 points if the applicant narrative describes the existence of other community-based organizations in the area, but does not describe firm connections between program activities and the delivery or support of the proposed program. An applicant will receive 0 points if the applicant does not intend to involve any community partners in the delivery or support of their proposed program.

18. Public and Indian Housing Family Self-Sufficiency (PH FSS) Program Coordinators

On page 11643, Overview Information, section F., first column, is revised to read as follows:

F. Application Deadline: The application deadline date is June 29, 2007. Please see the General Section for application submission, delivery, and timely receipt requirements.

19. Self-Help Homeownership Opportunity Program

On page 11650, Overview Information, section F., first column, is revised to read as follows:

F. Dates: The application deadline date for electronic submission and validation in Grants.gov is June 22, 2007. Applications submitted through http://www.grants.gov must be received and validated by grants.gov no later than 11:59:59 p.m. eastern time on the application deadline date. The validation process may take up to 72 hours.

On page 11654, section IV.C., first column, the first sentence is revised to read as follows:

The electronic application must be received and validated no later than 11:59:59 p.m. Eastern time by Grants.gov on the application deadline date, which is June 22, 2007.

On page 11656, section V.A., first column, under paragraph d. of the section labeled “Submission Requirements for Rating Factor 3,” revise the first complete sentence to read as follows:

State how the sales price for SHOP-assisted units is established, and demonstrate how the investment of SHOP funds, the contribution of sweat equity and volunteer labor, donations (e.g. land or building materials, etc.), in-kind contributions, and financing subsidies, reduces the average sales price to the homebuyer below the appraised value of the house or market value of comparable housing in the neighborhood.

On page 11659, section VI.A.1., second column, add the following section VI.A.1.c. before the final, unnumbered paragraph:

c. Fund less than the amount requested by any applicant after taking into consideration other amounts made available in FY 2007 to the applicant under the Self-Help Homeownership Opportunity Program appropriation.

20. Housing Opportunities for Persons With AIDS (HOPWA)

On page 11662, Overview Information, section F., first column, is revised to read as follows:

F. Dates: The application deadline date is June 14, 2007. Applications submitted through http://www.grants.gov must be received and validated by Grants.gov no later than 11:59:59 eastern time on the application deadline date. The validation process may take up to 72 hours. Refer to the General Section for application submission and timely receipt requirements.

On page 11663, section II.A., first column, is revised to read as follows:

A. Total. The total available HOPWA competitive funding in FY 2007 is approximately $28,463,000. After first awarding funds to renew existing HOPWA permanent housing projects in FY 2007, HUD estimates that approximately $2.3 million will be available for new projects.

21. Assisted Living Conversion Program for Eligible Multifamily Projects

On page 11677, Overview Information, section F., first column, is revised to read as follows:

F. Dates: Applications must be received and validated by Grants.gov no later than 11:59:59 p.m. Eastern Time on June 20, 2007. See the General Section for specific instructions regarding application submission.

On page 11684, section IV.C., second column, is revised to read as follows:

C. Submission Date and Time

Application Submission Date. Unless you received a waiver to the electronic application submission requirements, your completed ALCP application must be submitted via http://www.grants.gov/applicants/applyfor_grants.jsp and must be received and validated by Grants.gov no later than 11:59:59 eastern time on the application deadline date (June 20, 2007). (Refer to Section IV. of the General Section for further instructions on the delivery and receipt of applications.

22. Service Coordinators in Multifamily Housing

On page 11690, Overview Information, section F., first column, is revised to read as follows:

F. Dates: The application deadline date is June 20, 2007. (All applications must be received and validated by www.grants.gov no later than 11:59:59 p.m. Eastern Time on the application deadline date. See submission details in the General Section.)

On page 11694, section IV.C., first column, is revised to read as follows:

C. Submission Dates and Times. The application deadline date is June 20, 2007. (All applications must be received and validated by www.grants.gov no later than 11:59:59 p.m. eastern time on the application deadline date. See submission details in the General Section.)

23. Section 202 Supportive Housing for the Elderly Program

On page 11698, Overview Information, section F., first column, is revised to read as follows:

F. Dates: The application deadline date is June 15, 2007. Applications must be received and validated by Grants.gov by 11:59:59 p.m. eastern time on the deadline date. Please be sure to read the General Section for electronic application submission and receipt requirements.

On page 11702, section III.C.2.b.(3)(c)(ii), third column, the last sentence is revised to read as follows:

In order for your application to be considered for review under this FY 2007 funding competition, the Phase II must be received by the local HUD office on or before July 16, 2007.

On page 11702, section III.C.2.b(3)(c)(iii), third column, the second to last sentence before the note is revised to read as follows:

In order for your application to be considered for review under this FY 2007 funding competition, this information must be received by the local HUD office on or before July 16, 2007.

On page 11712, section V.A.1., first column, in the section heading delete “(23 points)” and replace with “(25 points).”

On page 11712, section V.A.1.a., second column, delete “(13 points)” and replace with “(15 points)”.

On page 11713, section V.A.3., second column, in the section heading, delete “(47 points)” and replace with “(45 points)”.

On page 11713, section V.A.3.c., third column, delete “(10 points)” and replace with “(8 points)”.

On page 11713, section V.A.3.c.(2)(a), third column, is revised to read as follows:

The neighborhood's percentage of persons of a particular racial or ethnic minority is at least 20 percentage points higher than the percentage of that particular racial or ethnic minority in the housing market area.

On page 11713, section V.A.3.c.(2)(b), third column, is revised to read as follows:

The neighborhood's total percentage of minority persons is at least 20 percentage points higher than the total percentage of minorities in the housing market area.

24. Section 811 Supportive Housing for Persons With Disabilities

On page 11719, Overview Information, section F., first column, is revised to read as follows:

F. Dates: Application deadline date: June 21, 2007. Application must be received and validated by Grants.gov by 11:59:59 p.m. eastern time on the deadline date. Refer to Section IV. below and the General Section for information on application submission requirements.

On page 11724, section III.C.2.b.(3)(d)(ii), first column, the last sentence is revised to read as follows:

In order for your application to be considered as an application with site control, the Phase II must be received in the local HUD office on or before July 23, 2007.

On page 11724, section III.C.2.b.(3)(d)(iii), first column, the last sentence before the note is revised to read as follows:

In order for your application to be considered as an application with site control, this information must be received by the appropriate local HUD office on or before July 23, 2007.

On page 11740, section V.B.4.(c), first column, first full paragraph, delete the second and third sentences and replace with the following:

HUD headquarters will use these residual funds first to fund Way Station, Incorporated in the jurisdiction of the Baltimore, MD Multifamily Program Center, a FY 2006 application that was not funded due to an administrative error relative to the project size limit. Second, HUD Headquarters will use the residual funds to restore units to projects reduced by the HUD Multifamily Program Center or Multifamily Hub as a result of the instructions for using their residual funds. Third, HUD Headquarters will use these funds for selecting additional applications based on HUD Program Centers' rankings, beginning with the highest rated application nationwide in Category A.

On page 11740, section VI.C.1., third column, delete, “Based on the information you provided in the Program Outcome Logic Model”.

25. The Early Doctoral Student Research Program and Doctoral Dissertation Research Grant Program

On page 11759, Overview Information, section F., first column, is revised to read as follows:

F. Dates: The application deadline date is June 13, 2007. Applications must be received and validated by Grants.gov by the deadline date. Please be sure to read the General Section for electronic submission and receipt requirements.

On page 11760, section II.C.1., is revised to read as follows:

1. Eligible Activities. Grant funds awarded under this NOFA must be used to support direct costs incurred in the timely completion of the research product. Eligible costs include stipends, computer software, purchase of data, travel expenses to collect data, transcription services, and compensation for interviews. Indirect costs are not eligible costs.

26. Funding Availability for Continuum of Care (CoC) Homeless Assistance Programs

On page 11743, Overview Information, section F., first column, is revised to read as follows:

F. Dates: Applications must be submitted no later than June 15, 2007. Please see Section IV of this NOFA for application submission and timely receipt requirements.

On page 11751, section C.1., first column, revise the first complete sentence to read as follows:

Your completed application must be submitted on or before June 15, 2007 to the addresses shown below.

27. Housing Counseling Training

On page 11767, Overview Information, section F., first column, is revised to read as follows:

F. Dates: The application deadline date is June 14, 2007. Applications submitted through http://www.grants.gov must be received and validated by grants.gov no later than 11:59:59 p.m. eastern time on the application deadline date. See Section IV of the General Section, regarding application submission procedures and timely filing requirements.

Dated: May 8, 2007.
Keith A. Nelson,
Assistant Secretary for Administration.

BILLING CODE 4210-67-P

[FR Doc. 07-2337 Filed 5-8-07; 1:27 pm]

BILLING CODE 4210-67-C